DEPARTMENT OF ENERGY

Federal Energy Regulatory Commission

Combined Notice of Filings #1

Take notice that the Commission received the following electric corporate filings:

Docket Numbers: EC21-125-000; EC21-128-000.

Applicants: PSEG Fossil LLC, PSEG Fossil Sewaren Urban Renewal LLC, PSEG Keys Energy Center LLC, PSEG Energy Resources & Trade LLC, Parkway Generation, LLC, Parkway Generation Essex, LLC, PSEG New Haven LLC, PSEG Power Connecticut LLC, PSEG Power New York LLC, Generation Bridge II, LLC.

Description: Response to December 6, 2021 Deficiency Letter of PSEG New Haven LLC, et al.

Filed Date: 12/17/21.

Accession Number: 20211217-5420.

Comment Date: 5 p.m. ET 1/7/22.

Take notice that the Commission received the following exempt wholesale generator filings:

Docket Numbers: EG22-32-000.

Applicants: Flower Valley II LLC.

Description: Self-Certification of Exempt Wholesale Generator Status of Flower Valley II LLC.

Filed Date: 12/21/21.

Accession Number: 20211221-5203.

Comment Date: 5 p.m. ET 1/11/22.

Take notice that the Commission received the following electric rate filings:

Docket Numbers: ER10-3079-019.

Applicants: Tyr Energy LLC.

Description: Updated Market Power Analysis for Southwest Power Pool Inc. Region of Tyr Energy LLC.

Filed Date: 12/22/21.

Accession Number: 20211222-5161.

Comment Date: 5 p.m. ET 2/21/22.

Docket Numbers: ER15-1873-013.

Applicants: Buckeye Wind Energy LLC.

Description: Triennial Market Power Analysis for Southwest Power Pool Inc. Region of Buckeye Wind Energy LLC.

Filed Date: 12/21/21.

Accession Number: 20211221-5218.

Comment Date: 5 p.m. ET 2/21/22.

Docket Numbers: ER16-1720-019.

Applicants: Invenergy Energy Management LLC.

Description: Triennial Market Power Analysis for Southwest Power Pool Inc. Region of Invenergy Energy Management LLC.

Filed Date: 12/21/21.

Accession Number: 20211221-5216.

Comment Date: 5 p.m. ET 2/21/22.

Docket Numbers: ER18-1639-014.

Applicants: Constellation Mystic Power, LLC.

Description: Compliance filing: Sixth Compliance Filing to be effective 6/1/2022.

Filed Date: 12/20/21.

Accession Number: 20211220-5218.

Comment Date: 5 p.m. ET 1/10/22.

Docket Numbers: ER18-471-007; ER18-472-007.

Applicants: States Edge Wind I Holdings LLC, States Edge Wind I LLC.

Description: Triennial Market Power Analysis for Southwest Power Pool Inc. Region of States Edge Wind I LLC.

Filed Date: 12/21/21.

Accession Number: 20211221-5219.

Comment Date: 5 p.m. ET 2/21/22.

Docket Numbers: ER18-784-005.

Applicants: Upstream Wind Energy LLC.

Description: Triennial Market Power Analysis for Southwest Power Pool Inc. Region of Upstream Wind Energy LLC.

Filed Date: 12/22/21.

Accession Number: 20211222-5159.

Comment Date: 5 p.m. ET 2/21/22.

Docket Numbers: ER20-387-003.

Applicants: Traverse Wind Energy LLC.

Description: Triennial Market Power Analysis for Southwest Power Pool Inc. Region of Traverse Wind Energy LLC.

Filed Date: 12/21/21.

Accession Number: 20211221-5267.

Comment Date: 5 p.m. ET 2/21/22.

Docket Numbers: ER20-388-003.

Applicants: Traverse Wind Energy Holdings LLC.

Description: Triennial Market Power Analysis for Southwest Power Pool Inc. Region of Traverse Wind Energy Holdings LLC.

Filed Date: 12/21/21.

Accession Number: 20211221-5268.

Comment Date: 5 p.m. ET 2/21/22.

Docket Numbers: ER20-956-002.

Applicants: Thunderhead Wind Energy LLC.

Description: Triennial Market Power Analysis for Southwest Power Pool Inc. Region of Thunderhead Wind Energy LLC.

Filed Date: 12/21/21.

Accession Number: 20211221-5266.

Comment Date: 5 p.m. ET 2/21/22.

Docket Numbers: ER21-2137-002.

Applicants: IR Energy Management LLC.

Description: Triennial Market Power Analysis for Southwest Power Pool Inc. Region of IR Energy Management LLC.

Filed Date: 12/21/21.

Accession Number: 20211221-5217.

Comment Date: 5 p.m. ET 2/21/22.

Docket Numbers: ER21-2600-002.

Applicants: Southwest Power Pool, Inc.

Description: Compliance filing: Compliance Filing in Response to Order issued in ER21-2600 (L and O) to be effective 12/1/2021.

Filed Date: 12/22/21.

Accession Number: 20211222-5043.

Comment Date: 5 p.m. ET 1/12/22.

Docket Numbers: ER22-69-000.

Applicants: Indeck Niles, LLC.

Description: Supplement to October 7, 2021 Indeck Niles, LLC tariff filing.

Filed Date: 11/15/21.

Accession Number: 20211115-5226.

Comment Date: 5 p.m. ET 1/3/22.

Docket Numbers: ER22-703-000.

Applicants: PJM Interconnection, L.L.C.

Description: § 205(d) Rate Filing: Revisions to PJM's FTR Credit Requirement and Request for 28-Day Comment Period to be effective 2/27/2022.

Filed Date: 12/21/21.

Accession Number: 20211221-5202.

Comment Date: 5 p.m. ET 1/11/22.

Docket Numbers: ER22-705-000.

Applicants: New York Independent System Operator, Inc.

Description: § 205(d) Rate Filing: 205: Market Power Mitigation Measures that apply to uneconomic production to be effective 2/21/2022.

Filed Date: 12/22/21.

Accession Number: 20211222-5059.

Comment Date: 5 p.m. ET 1/12/22.

Docket Numbers: ER22-706-000.

Applicants: Southwest Power Pool, Inc.

Description: § 205(d) Rate Filing: Revisions to the Formula Rate for Southwestern Public Service Co. (“SPS”) to be effective 10/1/2021.

Filed Date: 12/22/21.

Accession Number: 20211222-5100.

Comment Date: 5 p.m. ET 1/12/22.

Docket Numbers: ER22-707-000.

Applicants: ISO New England Inc., New England Power Company.

Description: § 205(d) Rate Filing: ISO New England Inc. submits tariff filing per 35.13(a)(2)(iii: New England Power; Second Revised Service Agreement No. TSA-NEP-86 to be effective 1/1/2022.

Filed Date: 12/22/21.

Accession Number: 20211222-5117.

Comment Date: 5 p.m. ET 1/12/22.

Docket Numbers: ER22-708-000.

Applicants: Alabama Power Company.

Description: Tariff Amendment: Jefferson County Solar LGIA Termination Filing to be effective 12/22/2021.

Filed Date: 12/22/21.

Accession Number: 20211222-5128.

Comment Date: 5 p.m. ET 1/12/22.

Docket Numbers: ER22-709-000.

Applicants: Missouri Joint Municipal Electric Utility Commission, Southwest Power Pool, Inc.

Description: § 205(d) Rate Filing: Missouri Joint Municipal Electric Utility Commission submits tariff filing per 35.13(a)(2)(iii: Missouri Joint Municipal Electric Utility Commission Formula Rate to be effective 12/31/9998.

Filed Date: 12/22/21.

Accession Number: 20211222-5129.

Comment Date: 5 p.m. ET 1/12/22.

Docket Numbers: ER22-710-000.

Applicants: Alabama Power Company.

Description: Tariff Amendment: Sycamore Solar LGIA Termination Filing to be effective 12/22/2021.

Filed Date: 12/22/21.

Accession Number: 20211222-5130.

Comment Date: 5 p.m. ET 1/12/22.

Docket Numbers: ER22-711-000.

Applicants: Alabama Power Company.

Description: § 205(d) Rate Filing: Sawmill Junction Solar Park Amended and Restated LGIA Filing to be effective 11/9/2021.

Filed Date: 12/22/21.

Accession Number: 20211222-5131.

Comment Date: 5 p.m. ET 1/12/22.

Docket Numbers: ER22-712-000.

Applicants: PJM Interconnection, L.L.C.

Description: § 205(d) Rate Filing: Original ISA, Service Agreement No. 6274; Queue No. AE2-133 to be effective 11/23/2021.

Filed Date: 12/22/21.

Accession Number: 20211222-5138.

Comment Date: 5 p.m. ET 1/12/22.

Docket Numbers: ER22-713-000.

Applicants: American Transmission Systems, Incorporated, PJM Interconnection, L.L.C.

Description: § 205(d) Rate Filing: American Transmission Systems, Incorporated submits tariff filing per 35.13(a)(2)(iii: ATSI submits one ECSA, SA No. 6145 to be effective 2/21/2022.

Filed Date: 12/22/21.

Accession Number: 20211222-5164.

Comment Date: 5 p.m. ET 1/12/22.

Docket Numbers: ER22-714-000.

Applicants: Mid-Atlantic Interstate Transmission, LLC, PJM Interconnection, L.L.C.

Description: § 205(d) Rate Filing: Mid-Atlantic Interstate Transmission, LLC submits tariff filing per 35.13(a)(2)(iii: MAIT submits two ECSAs, SA Nos. 6146 and 6147 to be effective 2/21/2022.

Filed Date: 12/22/21.

Accession Number: 20211222-5168.

Comment Date: 5 p.m. ET 1/12/22.

Docket Numbers: ER22-715-000.

Applicants: PJM Interconnection, L.L.C.

Description: § 205(d) Rate Filing: ISA, SA No. 6276; Queue No. AE2-060 to be effective 11/23/2021.

Filed Date: 12/22/21.

Accession Number: 20211222-5171.

Comment Date: 5 p.m. ET 1/12/22.

Take notice that the Commission received the following electric securities filings:

Docket Numbers: ES22-18-000.

Applicants: Portland General Electric Company.

Description: Amendment to Application Under Section 204 of the Federal Power Act for Authorization to Issue Securities of Portland General Electric Company.

Filed Date: 12/21/21.

Accession Number: 20211221-5222.

Comment Date: 5 p.m. ET 1/4/22.

Take notice that the Commission received the following public utility holding company filings:

Docket Numbers: PH22-3-000.

Applicants: Consumers Energy Company.

Description: CMS Energy Corporation submits FERC 65-B Notice of Change in Fact to Waiver Notification.

Filed Date: 12/20/21.

Accession Number: 20211220-5273.

Comment Date: 5 p.m. ET 1/10/22.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 22, 2021.
Kimberly D. Bose,
Secretary.

[FR Doc. 2021-28298 Filed 12-28-21; 8:45 am]

BILLING CODE 6717-01-P